DEPARTMENT OF JUSTICE

Notice of Lodging of Consent Decree Pursuant to the Clean Air Act

Notice is hereby given that on January 6, 2000, the United States lodged a proposed Consent Decree with the District Court for the Western District of Wisconsin, in United States v. Didion Milling Company, Inc., Case No. 99-C-261-C (W.D. Wis.), under Section 113(b) of the Clean Air Act, 42 U.S.C. § 7413(b). The proposed Consent Decree resolves certain claims of the United States against Didion Milling, Inc., relating to its grain transfer facility that was located at St. Feriole Island in Prairie du Chien, Wisconsin. Under the proposed Consent Decree Didion will pay the United States a $107,500 civil penalty.

The Department of Justice will receive comments relating to the proposed Consent Decree for 30 days following publication of this Notice. Comments should be addressed to the Assistant Attorney General, Environment and Natural Resources Division, United States Department of Justice, P.O. Box 7611, Ben Franklin Station, Washington, D.C. 20044-7611, and should refer to United States v. Didion Milling Company, Inc., Case No. 99-C-261-C (W.D. Wis.), 90-5-2-1-2219/1. The proposed Consent Decree may be examined at the Office of the United States Attorney for the Western District of Wisconsin, 660 W. Washington Ave., Suite 200, Madison, Wisconsin and the Region V Office of the United States Environmental Protection Agency, 77 West Jackson Boulevard, Chicago, Illinois 60604. A copy of the Consent Decree may also be obtained by overnight mail addressed to the Department of Justice Consent Decree Library, 13th Floor, 1425 New York Avenue, NW, Washington, DC 20005, or by regular mail addressed to the Department of Justice Consent Decree Library, P.O. Box 7611, Ben Franklin Station, Washington, DC 20044. In requesting a copy, please enclose a check for reproduction costs (at 25 cents per page) in the amount of $3.75 for the Decree, payable to the Consent Decree Library.

Joel M. Gross,
Chief, Environmental Enforcement Section, Environment and Natural Resources Division.

[FR Doc. 00-1613 Filed 1-21-00 8:45 am]

BILLING CODE 4410-15-M